FEDERAL FINANCIAL INSTITUTIONS EXAMINATION COUNCIL

[Docket No. AS23-05]

Appraisal Subcommittee; Notice of Meeting

AGENCY: Appraisal Subcommittee of the Federal Financial Institutions Examination Council.

ACTION: Notice of special meeting.

Description: In accordance with section 1104(b) of title XI of the Financial Institutions Reform, Recovery, and Enforcement Act of 1989, as amended, notice is hereby given that the Appraisal Subcommittee (ASC) met for a special meeting on this date.

Location: Virtual meeting via Webex.

Date: April 19, 2023.

Time: 3:30 p.m. ET.

Action and Discussion Item

Personnel Matter

The ASC convened a special meeting to vote on a personnel matter. The vote passed 7-0 to accept ASC staff recommendation on the personnel matter.

James R. Park,
Executive Director.

[FR Doc. 2023-09842 Filed 5-8-23; 8:45 am]

BILLING CODE 6700-01-P